OFFICE OF MANAGEMENT AND BUDGET

Cumulative Report of Rescissions Proposals Pursuant to the Congressional Budget and Impoundment Control Act of 1974

AGENCY: Executive Office of the President, Office of Management and Budget.

ACTION: Notice of monthly cumulative report pursuant to the Congressional Budget and Impoundment Control Act of 1974.

SUMMARY: Pursuant to the Congressional Budget and Impoundment Control Act of 1974, OMB is issuing a monthly cumulative report (for September 2018) from the Director detailing the status of rescission proposals that were previously transmitted to the Congress on May 8, 2018, and amended by the supplementary message transmitted on June 5, 2018.

DATES: Release Date: September 10, 2018.

ADDRESSES: The September 2018 cumulative report is available on-line on the OMB website at: https://www.whitehouse.gov/omb/budget-rescissions-deferrals/.

FOR FURTHER INFORMATION CONTACT: Jessica Andreasen, 6001 New Executive Office Building, Washington, DC 20503, Email address: jandreasen@omb.eop.gov, telephone number: (202) 395-1066. Because of delays in the receipt of regular mail related to security screening, respondents are encouraged to use electronic communications.

John Mulvaney,
Director.

[FR Doc. 2018-19986 Filed 9-13-18; 8:45 am]

BILLING CODE 3110-01-P